ENVIRONMENTAL PROTECTION AGENCY

40 CFR Part 52

[EPA-R01-OAR-2013-0260; A-1-FRL-9951-46-Region 1]

Air Plan Approval; New Hampshire; Approval of Single Source Orders

AGENCY: Environmental Protection Agency (EPA).

ACTION: Direct final rule.

SUMMARY: The Environmental Protection Agency (EPA) is approving State Implementation Plan (SIP) revisions submitted by the State of New Hampshire. The revisions consist of single source orders that establish reasonably available control technology for three sources of volatile organic compounds. This action is being taken in accordance with the Clean Air Act.

DATES: This direct final rule will be effective October 28, 2016, unless EPA receives adverse comments by September 28, 2016. If adverse comments are received, EPA will publish a timely withdrawal of the direct final rule in the Federal Register informing the public that the rule will not take effect.

ADDRESSES: Submit your comments, identified by Docket ID No. EPA-R01-OAR-2013-0260 at http://www.regulations.gov, or via email to Anne Arnold at: arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Bob McConnell, Environmental Engineer, Air Quality Planning Unit, Air Programs Branch (Mail Code OEP05-02), U.S. Environmental Protection Agency, Region 1, 5 Post Office Square, Suite 100, Boston, Massachusetts 02109-3912; (617) 918-1046; mcconnell.robert@epa.gov.

SUPPLEMENTARY INFORMATION: Throughout this document whenever “we,” “us,” or “our” is used, we mean EPA.

Organization of this document. The following outline is provided to aid in locating information in this preamble.

I. Background and Purpose

II. Description and Evaluation of the State's Submittals

1. Order for Parker-Hannifin Corporation

2. Order for Textile Tapes Corporation

3. Order for Watts Regulator Corporation

III. Final Action

IV. Incorporation by Reference

V. Statutory and Executive Order Reviews

I. Background and Purpose

The New Hampshire Department of Environmental Services (NH DES) submitted to EPA the following three single source orders establishing reasonably available control technology (RACT) for sources of volatile organic compounds (VOCs) for incorporation into the New Hampshire SIP: RACT Order ARD-03-001A, issued to Parker-Hannifin Corporation, Chomerics Division, located in Hudson, New Hampshire, submitted to EPA on October 31, 2014; RACT Order ARD-96-001, issued to Textile Tapes Corporation located in Gonic, New Hampshire, submitted to EPA on July 30, 2015; and RACT Order ARD-07-001, issued to Watts Regulator Company located in Franklin, New Hampshire, submitted to EPA on September 9, 2015. A description of these submittals and our evaluation of them appears below in Section II of this document.

II. Description and Evaluation of the State's Submittals

1. Order for Parker-Hannifin Corporation

The Parker-Hannifin Corporation, Chomerics Division, located in Hudson, New Hampshire, produces coated fabrics, films, and other substrates for use in the electronics industry. The NH DES previously issued VOC RACT Order ARD 03-001 to the facility on July 18, 2002, and EPA approved that order into the NH SIP on November 5, 2012. See 77 FR 66388. NH DES re-issued the order for this facility as ARD 03-001A to allow for modifications to monitoring requirements, testing frequency, and determination of destruction and removal efficiency for a catalytic oxidizer operated by the facility to control air pollution. New Hampshire DES determined that these changes were appropriate after reviewing the performance history of the oxidizer. VOC RACT Order ARD 03-001A was issued by the NH DES on October 22, 2014, and establishes enforceable requirements the facility must follow in order to control VOC emissions at the facility. The Order includes requirements for periodic monitoring of the catalytic oxidizer's performance, recordkeeping requirements, work practice standards, and allows the facility to generate and use discrete emission reduction credits.

2. Order for Textile Tapes Corporation

The Textile Tapes Corporation operates a fabric coating and hot melt coating facility located in Gonic, New Hampshire. The NH DES previously issued VOC RACT Order ARD-96-001 to the facility, with a state effective date of August 10, 2007, which EPA approved into the New Hampshire SIP on November 5, 2012. See 77 FR 66388. Subsequently, the facility installed a new regenerative thermal oxidizer (RTO) to replace an existing unit at the facility. The updated VOC RACT order for the facility, ARD-96-001, as amended on July 30, 2015, contains an updated operating temperature for the new RTO. Additionally, the updated VOC RACT order provides a facility wide VOC emissions limit of 24.9 tons on a 12 month rolling basis, which is a decrease from the previous limit of 63.8 tons. The updated order makes a number of editorial changes to reflect the current citations for New Hampshire's air pollution control regulations, includes requirements for monitoring and testing for the RTO, includes recordkeeping requirements, and allows the facility to generate and use discrete emission reduction credits.

3. Order for Watts Regulator Company

The Watts Regulator Company manufactures equipment for the plumbing, heating, and water quality industries at a facility located in Franklin, New Hampshire. The NH DES previously issued VOC RACT Order ARD-07-001 to the facility, which was then operated under the name Webster Valve Company, with a state effective date of March 21, 2007. EPA approved this order into the NH SIP on November 5, 2012. See 77 FR 66388. NH DES amended the order for this facility in 2015 to reflect the pending applicability of a newly adopted state VOC regulation, Env-A 1212, Miscellaneous Metal and Plastic Parts and Products Coating, to coatings used by the facility, and to include work practice standards to the order. The order includes recordkeeping requirements, and allows the facility to generate and use discrete emission reduction credits.

EPA agrees with New Hampshire's updated RACT determinations for the three sources mentioned above, and is therefore removing the existing orders for these facilities from the New Hampshire SIP and replacing them with the updated orders described above. The updated orders we are approving are at least as stringent as the orders being replaced, and therefore meet the anti-backsliding requirements of section 110(l) of the CAA.

III. Final Action

EPA is approving, and incorporating into the New Hampshire SIP, three single source orders that establish reasonably available control technology for the Parker-Hannifin Corporation, the Textile Tapes Corporation, and the Watts Regulator Company, and is removing previously approved orders for these three facilities from the New Hampshire SIP.

The EPA is publishing this action without prior proposal because the Agency views this as a noncontroversial amendment and anticipates no adverse comments. However, in the proposed rules section of this Federal Register publication, EPA is publishing a separate document that will serve as the proposal to approve the SIP revision should relevant adverse comments be filed. This rule will be effective October 28, 2016 without further notice unless the Agency receives relevant adverse comments by September 28, 2016.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on October 28, 2016 and no further action will be taken on the proposed rule. Please note that if EPA receives adverse comment on an amendment, paragraph, or section of this rule and if that provision may be severed from the remainder of the rule, EPA may adopt as final those provisions of the rule that are not the subject of an adverse comment.

IV. Incorporation by Reference

In this rule, the EPA is finalizing regulatory text that includes incorporation by reference. In accordance with requirements of 1 CFR 51.5, the EPA is finalizing the incorporation by reference of single source orders for the Parker Hannifin Corporation, Textile Tapes Corporation, and Watts Regulator Company, as described in the amendments to 40 CFR part 52 set forth below. The EPA has made, and will continue to make, these materials generally available through www.regulations.gov, and/or at the EPA Region 1 Office (please contact the person identified in the For Further Information Contact section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by October 28, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Ozone, Reporting and recordkeeping requirements, Volatile organic compounds.

Dated: August 15, 2016.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart EE—New Hampshire

2. In § 52.1520(d), the table is amended by removing existing entries for Parker-Hanifan Corporation, Textile Tapes Corporation (2 entries), and Webster Valve, and adding new entries for Parker-Hannifin Corporation, Textile Tapes Corporation, and Watts Regulator Company to the end of the table to read as follows:

§ 52.1520 Identification of plan.

* * * * *

(d) EPA-approved State Source specific requirements.

EPA-Approved New Hampshire Source Specific Requirements
Name of source | Permit No. | State effective date | EPA approval date ² | Additional explanations/ § 52.1535 citation
* * * * * * *
Parker-Hannifin Corporation | ARD 03-001A | 10/22/2014 | 8/29/2016 [Insert Federal Register citation] | VOC RACT Order.
Textile Tapes Corporation | ARD-96-001 | 7/30/2015 | 8/29/2016 [Insert Federal Register citation] | VOC RACT Order.
Watts Regulator Company | ARD 07-001 | 8/21/2015 | 8/29/2016 [Insert Federal Register citation] | VOC RACT Order.
* * * * * * *
² In order to determine the EPA effective date for a specific provision listed in this table, consult the Federal Register notice cited in this column for the particular provision.

* * * * *

[FR Doc. 2016-20538 Filed 8-26-16; 8:45 am]

BILLING CODE 6560-50-P